DEPARTMENT OF DEFENSE

Defense Acquisition Regulations System

48 CFR Part 232

[Docket No. DARS 2015-0047]

RIN 0750-AI70

Defense Federal Acquisition Regulation Supplement: Contract Debts—Conform to FAR Section Designations (DFARS Case 2015-D029)

AGENCY: Defense Acquisition Regulations System, Department of Defense (DoD).

ACTION: Final rule.

SUMMARY: DoD is issuing a final rule amending the Defense Federal Acquisition Regulation Supplement (DFARS) subpart on contract debts to conform with the comparable Federal Acquisition Regulation (FAR) subpart.

DATES: Effective September 30, 2015.

FOR FURTHER INFORMATION CONTACT: Ms. Julie Hammond, telephone 571-372-6174.

SUPPLEMENTARY INFORMATION:

I. Background

DoD is amending the numbering structure for various sections in DFARS subpart 232.6 and revising section headings, where appropriate, in order to conform with the FAR. This change will align the DFARS with the same coverage in the FAR. No changes are made beyond the redesignation of DFARS subpart 232.6 section numbers and the conformation of DFARS section headings to the FAR.

II. Publication of This Final Rule for Public Comment Is Not Required by Statute

“Publication of proposed regulations”, 41 U.S.C. 1707, is the statute which applies to the publication of the Federal Acquisition Regulation. Paragraph (a)(1) of the statute requires that a procurement policy, regulation, procedure or form (including an amendment or modification thereof) must be published for public comment if it has either a significant effect beyond the internal operating procedures of the agency issuing the policy, regulation, procedure or form, or has a significant cost or administrative impact on contractors or offerors. This final rule is not required to be published for public comment, because the DFARS sections are being renumbered merely to conform to the FAR sections and the DFARS section titles are being modified to conform to the FAR section titles. The content of the DFARS sections remains unchanged. This will alleviate any confusion the contracting officers may have and aid in moving between the two regulations with ease. These requirements affect only the internal operating procedures of the Government.

III. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action and, therefore, was not subject to review under section 6(b) of E.O. 12866, Regulatory Planning and Review, dated September 30, 1993. This rule is not a major rule under 5 U.S.C. 804.

IV. Regulatory Flexibility Act

The Regulatory Flexibility Act does not apply to this rule because this final rule does not constitute a significant DFARS revision within the meaning of FAR 1.501-1, and 41 U.S.C. 1707 does not require publication for public comment.

V. Paperwork Reduction Act

The rule does not contain any information collection requirements that require the approval of the Office of Management and Budget under the Paperwork Reduction Act (44 U.S.C. chapter 35).

List of Subjects in 48 CFR Part 232

Government procurement.

Jennifer L. Hawes,
Editor, Defense Acquisition Regulations System.

Therefore, 48 CFR part 232 is amended as follows:

PART 232—CONTRACT FINANCING

1. The authority citation for 48 CFR part 232 continues to read as follows:

Authority: 41 U.S.C. 1303 and 48 CFR chapter 1.

232.605 [Redesignated as 232.602]

2. Redesignate section 232.605 as 232.602.

3. In the newly redesignated section 232.602, revise the heading to read as follows:

232.602 Responsibilities.

* * * * *

232.606 [Redesignated as 232.603]

4. Redesignate section 232.606 as 232.603.

5. Revise the newly redesignated section 232.603 to read as follows:

232.603 Debt determination.

When transferring a case to the contract financing office, follow the procedures at PGI 232.603.

232.610 [Redesignated as 232.604]

6. Redesignate section 232.610 as 232.604.

7. Revise the newly redesignated section 232.604 to read as follows:

232.604 Demand for payment.

When issuing a demand for payment of a contract debt, follow the procedures at PGI 232.604.

232.616 [Redesignated as 232.610]

8. Redesignate section 232.616 as 232.610.

9. Revise the newly redesignated section 232.610 to read as follows:

232.610 Compromising debts.

Only the department/agency contract financing offices (see PGI 232.070(c)) are authorized to compromise debts covered by this subpart.

232.617 [Redesignated as 232.611]

10. Redesignate section 232.617 as 232.611.

232.611 [Amended]

11. In the newly redesignated section 232.611, amend paragraph (a) by removing “FAR 32.617(a)(2)” and adding “FAR 32.611(a)(2)” in its place.

[FR Doc. 2015-24786 Filed 9-29-15; 8:45 am]

BILLING CODE 5001-06-P